DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will meet on Thursday, March 26, 2015 from 8:30 a.m. to 5:00 p.m. Eastern Time and Friday, March 27, 2015, from 9:00 a.m. to 12:00 p.m. Eastern Time. The primary purpose of this meeting is to update the Committee on the progress of the implementation of the National Institute of Standards and Technology (NIST) Joplin tornado investigation's recommendations and receive NIST's response to the Committee's 2013 annual report recommendations. The agenda may change to accommodate Committee business. The final agenda will be posted on the NIST Web site at http://www.nist.gov/el/disasterstudies/ncst/.

DATES: The NCST Advisory Committee will meet on Thursday, March 26, 2015 from 8:30 a.m. until 5:00 p.m. Eastern Time and Friday, March 27, 2015, from 9:00 a.m. to 12:00 p.m. Eastern Time. The meeting will be open to the public.

ADDRESSES: The meeting will be held in the Portrait Room, Administration Building, NIST, 100 Bureau Drive, Gaithersburg, Maryland 20899. Please note admittance instructions under the SUPPLEMENTARY INFORMATION section of this notice.

FOR FURTHER INFORMATION CONTACT: Tina Faecke, Management and Program Analyst, Disaster and Failure Studies Program, Engineering Laboratory, NIST, 100 Bureau Drive, Mail Stop 8604, Gaithersburg, Maryland 20899-8604. Ms. Faecke's email address is tina.faecke@nist.gov and her phone number is (301) 975-5911.

SUPPLEMENTARY INFORMATION: The Committee was established pursuant to Section 11 of the NCST Act (Pub. L. 107-231), codified at 15 U.S.C. 7301 et seq. The Committee is currently composed of nine members, appointed by the Director of NIST, who were selected on the basis of established records of distinguished service in their professional community and their knowledge of issues affecting the National Construction Safety Teams. The Committee advises the Director of NIST on the functions and composition of Teams established under the NCST Act and on the exercise of authorities enumerated in the NCST Act and reviews the procedures developed to implement the NCST Act and reports issued under section 8 of the NCST Act. Background information on the NCST Act and information on the NCST Advisory Committee is available at http://www.nist.gov/el/disasterstudies/ncst/.

Pursuant to the Federal Advisory Committee Act, as amended, 5 U.S.C. App., notice is hereby given that the NCST Advisory Committee will meet on Thursday, March 26, 2015, from 8:30 a.m. until 5:00 p.m. Eastern Time and on Friday, March 27, 2015, from 9:00 a.m. until 12:00 p.m. Eastern Time. The meeting will be open to the public. The meeting will be held in the Portrait Room, Administration Building, NIST, 100 Bureau Drive, Gaithersburg, Maryland 20899. The primary purpose of this meeting is to update the Committee on the progress of the implementation of the NIST Joplin tornado investigation's recommendations and receive NIST's response to the Committee's 2013 annual report recommendations. The agenda may change to accommodate Committee business. The final agenda will be posted on the NIST Web site at http://www.nist.gov/el/disasterstudies/ncst/.

Individuals and representatives of organizations who would like to offer comments and suggestions related to items on the Committee's agenda for this meeting are invited to request a place on the agenda. On March 27, 2015, approximately fifteen minutes will be reserved near the conclusion of the meeting for public comments, and speaking times will be assigned on a first-come, first-served basis. The amount of time per speaker will be determined by the number of requests received, but is likely to be about three minutes each. Questions from the public will not be considered during this period. All those wishing to speak must submit their request by email to the attention of Ms. Tina Faecke, tina.faecke@nist.gov, by 5:00 p.m. Eastern Time, Thursday, March 19, 2015.

Speakers who wish to expand upon their oral statements, those who had wished to speak but could not be accommodated on the agenda, and those who were unable to attend in person are invited to submit written statements to NCST, National Institute of Standards and Technology, 100 Bureau Drive, MS 8604, Gaithersburg, Maryland 20899-8604, via fax at (301) 975-4032, or electronically by email to tina.faecke@nist.gov.

All visitors to the NIST site are required to pre-register to be admitted. Anyone wishing to attend this meeting must register by 5:00 p.m. Eastern Time, Thursday, March 19, 2015, in order to attend. Please submit your full name, email address, and phone number to Melissa Banner. Non-U.S. citizens must submit additional information; please contact Ms. Banner. Ms. Banner's email address is melissa.banner@nist.gov, and her phone number is (301) 975-8912. Also, please note that under the REAL ID Act of 2005 (Pub. L. 109-13), federal agencies, including NIST, can only accept a state-issued driver's license or identification card for access to federal facilities if issued by states that are REAL ID compliant or have an extension. NIST also currently accepts other forms of federal-issued identification in lieu of a state-issued driver's license. For detailed information please contact Ms. Banner or visit: http://www.nist.gov/public_affairs/visitor/.

Kevin A. Kimball,
Chief of Staff.

[FR Doc. 2015-02586 Filed 2-9-15; 8:45 am]

BILLING CODE 3510-13-P